DEPARTMENT OF COMMERCE

National Oceanic and Atmospheric Administration

50 CFR Part 679

RIN 0648-BM64

Fisheries of the Exclusive Economic Zone Off Alaska; Amendment 125 to the Bering Sea and Aleutian Islands Fishery Management Plan; Pacific Cod Small Boat Access

AGENCY: National Marine Fisheries Service (NMFS), National Oceanic and Atmospheric Administration (NOAA), Commerce.

ACTION: Notification of availability; request for comments.

SUMMARY: The North Pacific Fishery Management Council (Council) submitted amendment 125 to the Fishery Management Plan for Groundfish of the Bering Sea and Aleutian Islands Management Area (BSAI FMP) to the Secretary of Commerce for review. If approved, amendment 125 would modify the BSAI Pacific cod jig sector to allow catch from catcher vessels (CV) using hook-and-line or pot gear that are less than or equal to 55 feet (ft) (16.8 meters (m)) length overall (LOA) harvesting Pacific cod in the BSAI during the jig gear A season to accrue to the jig sector allocation. Amendment 125 would promote the goals and objectives of the Magnuson-Stevens Fishery Conservation and Management Act (Magnuson-Stevens Act), BSAI FMP, and other applicable laws.

DATES: Comments must be received no later than August 4, 2025.

ADDRESSES: A plain language summary of this proposed action is available at https://www.regulations.gov/docket/NOAA-NMFS-2025-0003. You may submit comments on this document, identified by NOAA-NMFS-2025-0003, by any of the following methods:

• Electronic Submission: Submit all electronic public comments via the Federal eRulemaking Portal. Go to https://www.regulations.gov and enter NOAA-NMFS-2025-0003 in the Search box. Click the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of proposed amendment 125, the draft Regulatory Impact Review for proposed amendment 125 to the Fishery Management Plan for Groundfish of the Bering Sea and Aleutian Islands Management Area (referred to as the Analysis), and the draft Categorical Exclusion prepared for this action are available from www.regulations.gov or from the NMFS Alaska Region website at https://www.fisheries.noaa.gov/region/alaska.

FOR FURTHER INFORMATION CONTACT: Lis Henderson, 907-586-7228, lis.henderson@noaa.gov.

SUPPLEMENTARY INFORMATION: The Magnuson-Stevens Act requires that each regional fishery management council submit any FMP amendment it prepares to NMFS for review and approval, disapproval, or partial approval by the Secretary of Commerce. The Magnuson-Stevens Act also requires that NMFS, after a council's transmittal of an FMP amendment, immediately publish a document in the Federal Register announcing that the amendment is available for public review and comment. This document announces that proposed amendment 125 to the BSAI FMP is available for public review and comment.

NMFS manages the Pacific cod fisheries in the U.S. exclusive economic zone of the BSAI under the BSAI FMP. The Council prepared, and NMFS approved, the BSAI FMP under the authority of the Magnuson-Stevens Act, 16 U.S.C. 1801 et seq. Regulations implementing the BSAI FMP appear at 50 CFR part 679. General regulations governing U.S. fisheries also appear at 50 CFR part 600.

Background

The BSAI FMP and implementing regulations require that, after consultation with the Council, NMFS specify an overfishing limit (OFL), an acceptable biological catch (ABC), and a total allowable catch (TAC) amount for each target species or species group of groundfish, including Pacific cod, on an annual basis. An OFL is the catch level above which overfishing would occur for a species or species group. An ABC is the level of a species or species group annual catch that accounts for the scientific uncertainty in the estimate of OFL and any other scientific uncertainty. The TAC is the annual catch target for a species or species group, derived from the ABC by considering social and economic factors and management uncertainty. Under the BSAI FMP, an ABC is set below its respective OFL. Under the BSAI FMP, the TAC must be set lower than or equal to the ABC.

Pacific cod is assessed as two distinct stocks with a separate OFL, ABC, and TAC for each stock: the eastern Bering Sea (BS) stock and Aleutian Islands (AI) stock. To allocate Pacific cod TACs, NMFS first allocates 10.7 percent of the BS TAC and the AI TAC to the Community Development Quota (CDQ) Program (§ 679.20(a)(7)(i)(A)). After CDQ allocations have been deducted from the respective BS and AI Pacific cod TACs, the remaining BS and AI Pacific cod TACs are combined for calculating BSAI Pacific cod sector allocations for nine distinct non-CDQ sectors (§ 679.20(a)(7)(ii)(A)). In addition, during a fishing year, NMFS may reallocate unharvested Pacific cod among sectors, consistent with the reallocation hierarchy set forth in regulations (§ 679.20(a)(7)(iii)).

The BSAI Pacific cod jig sector allocation has not historically been fully utilized, particularly in the A and C seasons. On average, from 2008 through 2021, 95 percent of the BSAI Pacific cod jig sector's initial allocation has been reallocated to the less than 60 ft (18.3 m) LOA hook-and-line or pot CV sector.

In October 2022, the Council recommended amendment 125 to the BSAI FMP. Amendment 125 would revise Section 4.1.2.2 of the BSAI FMP to modify the BSAI Pacific cod jig sector to allow catch from CVs less than or equal to 55 ft (16.8 m) LOA that use hook-and-line or pot gear to accrue to the jig sector during the jig-gear A season (January 1 through April 30). This would allow smaller CVs (less than or equal to 55 ft (16.8 m) LOA) using hook-and-line or pot gear to harvest the Pacific cod jig allocation at the start of the year. The Council considered the increasing competition in the less than 60 ft (18.3 m) LOA hook-and-line or pot CV sector. Based on this and a review of the scientific information and consideration of the National Standard guidelines, the Council recommended amendment 125 to increase stability and additional opportunities for smaller fishery participants and potential new entrants with smaller CVs without negatively impacting vessels using jig gear. This is because the jig gear sector does not fully use its A-season allocation and has had very low overall participation in recent years. NMFS reviewed the scientific information and National Standards and has preliminarily determined that it supported the Council's basis for the recommendation (see Section 4.3 of the Analysis), subject to further consideration after public comment. This action would not change the allocation, percentages, or affect any other sector allocation established under amendment 85 (72 FR 50788, September 4, 2007).

NMFS is soliciting public comments on the proposed amendment 125 through the end of the comment period (see DATES). NMFS intends to publish in the Federal Register and seek public comment on a proposed rule that would implement amendment 125, following NMFS's evaluation of the proposed rule under the Magnuson-Stevens Act.

Respondents do not need to submit the same comments on amendment 125 and the proposed rule. All relevant written comments received by the end of the applicable comment period, whether specifically directed to the BSAI FMP amendment or the proposed rule will be considered by NMFS in the approval/disapproval decision for amendment 125 and addressed in the response to comments in the final decision. Comments received after the end of the applicable comment period will not be considered in the approval/disapproval decision on amendment 125. To be considered, comments must be received, not just postmarked or otherwise transmitted, by the last day of the comment period (see DATES).

Authority: 16 U.S.C. 1801 et seq.

Dated: May 29, 2025.
Kelly Denit,
Director, Office of Sustainable Fisheries, National Marine Fisheries Service.

[FR Doc. 2025-10110 Filed 6-3-25; 8:45 am]

BILLING CODE 3510-22-P